DEPARTMENT OF TRANSPORTATION

National Highway Traffic Safety Administration

[Docket No. NHTSA-2015-0119]

Public Meeting Concerning Test Device for Human Occupant Restraint (THOR)

AGENCY: National Highway Traffic Safety Administration (NHTSA), Department of Transportation (DOT).

ACTION: Announcement of public meeting.

SUMMARY: NHTSA is announcing a public meeting to present the qualification and seating procedures for the Test Device for Human Occupant Restraint (THOR) 50th percentile male anthropomorphic test device (ATD). The meeting will include NHTSA presentations outlining the qualification and seating procedures the agency has been using and will provide opportunities for the attendees to ask questions on the technical aspects of the procedures.

DATES: NHTSA will hold the public meeting over two days. The first day will focus on seating procedures, and will begin at 9:00 a.m. and continue until 3:00 p.m. on Wednesday, August 31, 2016. The second day will focus on qualification procedures, and will begin at 9:00 a.m. and continue until 3:00 p.m. on Thursday, September 1, 2016. Each day will include two sessions: First, a technical information session that will occur in a conference room; second, a practical session which will take place in a lab environment. The public technical meeting will be held at the location indicated in the ADDRESSES section below. Registration will be closed once the maximum capacity of 60 attendees is reached, or 5 business days before the meeting, whichever comes first. Please submit all written comments no later than October 1, 2016.

ADDRESSES: The public meeting will be held at the National Highway Traffic Safety Administration Vehicle Research and Test Center, 10820 State Route 347—Bldg. 60, East Liberty, Ohio 43319.

FOR FURTHER INFORMATION CONTACT: If you would like to attend the public meeting, please contact Dr. Kevin Moorhouse by the date specified under DATES, at: Office of Vehicle Safety Research, Applied Biomechanics Division, Vehicle Research and Test Center, 10820 State Route 347, East Liberty, OH 43319; telephone number: (937) 666-3283; email address: kevin.moorhouse@dot.gov (preferred method of registration). Please send your name, affiliation, phone number, email address, and any accommodations you may need, such as a sign language interpreter or translator.

Written comments. You may submit comments to the docket number NHTSA-2015-0119 by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: 1200 New Jersey Avenue SE., West Building Ground Floor, Room W12-140, between 9 a.m. and 5 p.m. ET, Monday through Friday, except Federal holidays.

• Fax: 202-493-2251.

Instructions: All submissions must include the agency name and docket number. Note that all comments received will be posted without change to http://www.regulations.gov, including any personal information provided. Please see the Privacy Act discussion below.

Docket: For access to the docket, go to http://www.regulations.gov at any time or to 1200 New Jersey Avenue SE., West Building Ground Floor, Room W12-140, Washington, DC 20590, between 9 a.m. and 5 p.m., Monday through Friday, except Federal Holidays. Telephone: (202) 366-9826.

Privacy Act: Anyone is able to search the electronic form of all comments received into any of our dockets by the name of the individual submitting the comment (or signing the comment, if submitted on behalf of an association, business, labor union, etc.). You may review DOT's complete Privacy Act Statement in the Federal Register published on April 11, 2000, (Volume 65, Number 70; Pages 19477-78) or you may visit http://www.dot.gov/privacy.html.

Confidential Business Information: If you wish to submit information under a claim of confidentiality, you should submit two copies of your complete submission and one copy of the submission containing only the portions for which no claim of confidential treatment is made and from which those portions for which confidential treatment is claimed have been redacted, to the Office of Chief Counsel (NCC-100), National Highway Traffic Safety Administration, Room W41-227, 1200 New Jersey Avenue SE., Washington, DC 20590. You should include a cover letter setting forth the information specified in our confidential business information regulation (49 CFR part 512). In addition, you should submit two copies from which you have redacted the claimed confidential business information to Docket Management at the address given above.

SUPPLEMENTARY INFORMATION: The Test Device for Human Occupant Restraint 50th percentile male (THOR-50M) is an advanced anthropomorphic test device (ATD, or test dummy). It is designed to better represent the interaction of automotive occupants with modern and sophisticated restraint systems, such as force-limited three-point belts and air bags, which have become standard equipment. The purpose of this public meeting is to provide a demonstration of the qualification procedures and seating procedures for the THOR-50M ATD and answer questions that the public may have regarding the implementation of these procedures. Topics for discussion at the public meeting are limited to qualification procedures and seating procedures.

Registration is required for all attendees. Please see registration instructions under DATES and FOR FURTHER INFORMATION CONTACT. Should it be necessary to cancel the public meeting due to inclement weather or any other emergencies, a decision to cancel will be made as soon as possible and emailed to the registered attendees. If you do not have access to email, you may call the contacts listed in this announcement and leave your telephone number and/or email address. You will be contacted only if the public meeting is postponed or canceled.

Written comments can be submitted to the docket. See information under DATES and FOR FURTHER INFORMATION CONTACT. The final agenda, as well as material presented at the public meeting, will be posted to the NHTSA Web site at http://www.nhtsa.gov/Research/Biomechanics+&+Trauma/THOR+50th+Male+ATD. The agenda will be posted one week prior to the public meeting. The public meeting will include NHTSA and NHTSA contractor presentations outlining the content and basis of the procedures, followed by a practical demonstration in a lab environment.

Public Meeting Procedures: Because the meeting will be located in a lab environment, NHTSA requests that the number of those attending from each affiliation be limited to two (2). Once the maximum capacity of 60 attendees is reached, registration will be closed. For security purposes, photo identification is required to enter NHTSA's Vehicle Research and Test Center.

There will be an opportunity for attendees to ask NHTSA questions related to the technical aspects of the qualification and seating procedures.

Nathaniel Beuse,
Associate Administrator for Vehicle Safety Research.

[FR Doc. 2016-16949 Filed 7-18-16; 8:45 am]

BILLING CODE 4910-59-P